DEPARTMENT OF COMMERCE

Bureau of Industry and Security

15 CFR Part 744

[Docket No. 220331-0082]

RIN 0694-AI67

Additions of Entities to the Entity List

AGENCY: Bureau of Industry and Security, Commerce.

ACTION: Final rule.

SUMMARY: In response to the Russian Federation's (Russia's) further invasion of Ukraine on February 24, 2022, the Department of Commerce is amending the Export Administration Regulations (EAR) by adding 120 entities under 120 entries to the Entity List. These 120 entities have been determined by the U.S. Government to be acting contrary to the national security interests or foreign policy of the United States and will be listed on the Entity List under the destinations of Belarus and Russia.

DATES: This rule is effective April 1, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the Export Administration Regulations (EAR)) identifies entities for which there is reasonable cause to believe, based on specific and articulable facts, that the entities have been involved, are involved, or pose a significant risk of being or becoming involved in activities contrary to the national security or foreign policy interests of the United States. The EAR (15 CFR parts 730-774) imposes additional license requirements on, and limit the availability of most license exceptions for exports, reexports, and transfers (in-country) to listed entities. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR. Paragraphs (b)(1) through (5) of § 744.11 include an illustrative list of activities that could be contrary to the national security or foreign policy interests of the United States. As discussed further later in this preamble, 95 entities are being added in this rule on the basis of §§ 744.11(b) and 744.21 and will receive a footnote 3 designation because the End-User Review Committee (ERC) has determined they are `military end users' in accordance with § 744.21. A footnote 3 designation subjects these entities to the Russia/Belarus foreign “direct product” (FDP) rule, detailed in § 734.9(g). The other 25 entities are being added solely on the basis of § 744.11(b).

The ERC, composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

The ERC determined to add the following entities to the Entity List on the basis of §§ 744.11(b) and 744.21 under the destination of Belarus: 140 Repair Plant JSC; 558 Aircraft Repair Plant JSC; 2566 Radioelectronic Armament Repair Plant JSC; AGAT—Control Systems—Managing Company of Geoinformation Control Systems Holding JSC; Agat-Electromechanical Plant OJSC; AGAT-SYSTEM; ATE-Engineering LLC; BelOMO Holding; Belspetsvneshtechnika SFTUE; BSVT-New Technologies; CJSC Beltechexport; Department of Internal Affairs of the Gomel Region Executive Committee; Internal Troops of The Ministry of Internal Affairs of the Republic of Belarus; JSC Transaviaexport Airlines; KGB Alpha; Kidma Tech OJSC; Minotor-Service; Minsk Wheeled Tractor Plant; Oboronnye Initsiativy LLC; OJS KB Radar Managing Company; Peleng JSC; State Authority for Military Industry of the Republic of Belarus; State Security Committee of the Republic of Belarus; and Volatavto OJSC to the Entity List. All of these entities will be designated with a footnote 3. These entities are being added to the Entity List consistent with BIS's response to Belarus's substantial enabling and support of Russia's invasion of Ukraine and of Russia's military forces. Specifically, these entities are being added to the Entity List for acquiring and attempting to acquire items subject to the EAR in support of Belarus' military. Their addition to the Entity List and a footnote 3 designation means these entities are subject to a license requirement for the export, reexport, export from abroad (as described under Russia/Belarus foreign “direct product” (FDP) rule, § 746.8(a)(3)), or transfers (in-country) of all items subject to the EAR that are destined to these entities. BIS will review license applications under a policy of denial. No license exceptions are available for exports, reexports, exports from abroad (as described under Russia/Belarus foreign “direct product” (FDP) rule, § 746.8(a)(3)), or transfers (in-country) to the entities being added.

In addition, the ERC determined to add the following entities to the Entity List on the basis of §§ 744.11(b) and 744.21 under the destination of Russia: 5th Shipyard; Alagir Resistor Factory; All-Russian Scientific-Research Institute Etalon JSC; Almaz JSC; Dolgoprudniy Design Bureau of Automatics; Electronic Computing Technology Scientific-Research Center; Electrosignal JSC; Inteltech PJSC; Joint Stock Company NPO Elektromechaniki; Kulon Scientific-Research Institute JSC; Lutch Design Office JSC; Meteor Plant JSC; Moscow Communications Research Institute JSC; Moscow Order of the Red Banner of Labor Research Radio Engineering Institute JSC; Omsk Production Union Irtysh JSC; Omsk Scientific-Research Institute of Instrument Engineering JSC; Optron JSC; Polyot Chelyabinsk Radio Plant JSC; Pskov Distance Communications Equipment Plant; Radiozavod JSC; Razryad JSC; Research Production Association Mars; Ryazan Radio-Plant; Scientific-Production Association and Scientific-Research Institute of Radio-Components; Scientific-Production Enterprise Almaz JSC; Scientific-Production Enterprise “Kant”; Scientific Production Enterprise “Radiosviaz”; Scientific-Production Enterprise “Svyaz”; Scientific-Production Enterprise Volna; Scientific-Production Enterprise Vostok JSC; Scientific-Research Institute “Argon”; Scientific-Research Institute of Automated Systems and Communications Complexes Neptune JSC; Scientific Research Institute of Communication Management Systems; Scientific Research Institute Ferrite-Domen; Special Design and Technical Bureau for Relay Technology; Tactical Missile Corporation, 711 Aircraft Repair Plant (711 ARZ); Tactical Missile Corporation, AO GNPP “Region”; Tactical Missile Corporation, AO TMKB “Soyuz”; Tactical Missile Corporation, Azov Optical and Mechanical Plant; Tactical Missile Corporation, “Central Design Bureau of Automation”; Tactical Missile Corporation, Concern “MPO—Gidropribor”; Tactical Missile Corporation, Joint Stock Company Avangard; Tactical Missile Corporation, Joint Stock Company Concern Granit-Electron; Tactical Missile Corporation, Joint Stock Company Elektrotyaga; Tactical Missile Corporation, Joint Stock Company GosNIIMash; Tactical Missile Corporation JSC “KRASNY GIDROPRESS”; Tactical Missile Corporation, Joint Stock Company PA Strela; Tactical Missile Corporation, Joint Stock Company “Plant Dagdiesel”; Tactical Missile Corporation, Joint Stock Company Plant Kulakov; Tactical Missile Corporation, Joint Stock Company Ravenstvo; Tactical Missile Corporation, Joint Stock Company Ravenstvo-service; Tactical Missile Corporation, Joint-Stock Company “Research Center for Automated Design”; Tactical Missile Corporation, Joint Stock Company “Salute”; Tactical Missile Corporation, Joint Stock Company Saratov Radio Instrument Plant; Tactical Missile Corporation Joint Stock Company “Scientific Research Institute of Marine Heat Engineering”; Tactical Missile Corporation, Joint Stock Company Severny Press; Tactical Missile Corporation, Joint Stock Company “State Machine Building Design Bureau “Vympel” By Name I.I. Toropov”; Tactical Missile Corporation, Joint Stock Company “URALELEMENT”; Tactical Missile Corporation, KB Mashinostroeniya; Tactical Missile Corporation, NPO Electromechanics; Tactical Missile Corporation, NPO Lightning; Tactical Missile Corporation, Petrovsky Electromechanical Plant “Molot”; Tactical Missile Corporation, PJSC ANPP Temp Avia; Tactical Missile Corporation, PJSC “MBDB ISKRA”; Tactical Missile Corporation, Raduga Design Bureau; Tactical Missile Corporation, RKB Globus; Tactical Missile Corporation, Smolensk Aviation Plant; Tactical Missile Corporation, TRV Engineering; Tactical Missile Corporation, Ural Design Bureau “Detal”; Tactical Missile Corporation, Zvezda-Strela Limited Liability Company; and United Shipbuilding Corporation “Production Association Northern Machine Building Enterprise”. All the entities will be designated with footnote 3. These entities are being added to the Entity List consistent with BIS's response to Russia's invasion of Ukraine, which include restricting Russia's access to items subject to the EAR that allow it to project power and fulfill its strategic ambitions. Specifically, these entities are being added to the Entity List for acquiring and attempting to acquire items subject to the EAR in support of Russia's military. Their addition to the Entity List and footnote 3 designation means these entities are subject to a license requirement for exports, reexports, exports from abroad (as described under Russia/Belarus foreign “direct product” (FDP) rule, § 746.8(a)(3)), or transfers (in-country) of all items subject to the EAR that are destined to these entities. BIS will review license applications under a policy of denial. No license exceptions are available for exports, reexports, exports from abroad (as described under Russia/Belarus foreign “direct product” (FDP) rule § 746.8(a)(3)), or transfers (in-country) to the entities being added.

Moreover, the ERC determined to add the following entities to the Entity List on the basis of § 744.11(b) under the destination of Russia: 46th TSNII Central Scientific Research Institute; All Russia Scientific Research Institute of Optical Physical Measurements; Arzam Scientific Production Enterprise Temp Avia; Automated Procurement System for State Defense Orders, LLC; Engineering Center Moselectronproekt; Etalon Scientific and Production Association; Evgeny Krayushin; Far-East Factory Zvezda; Federal Center for Dual-Use Technology (FTsDT) Soyuz; Foreign Trade Association Mashpriborintorg; Ineko LLC; Informakustika JSC; Institute of High Energy Physics; Institute of Theoretical and Experimental Physics; ISE SO RAN Institute of High-Current Electronics; JSC Energiya, Kaluga Scientific-Research Institute of Telemechanical Devices JSC; OJSC Pella Shipyard; Scientific Production Center Vigstar JSC; Scientific-Production Enterprise Salyut JSC; Scientific-Research Institute and Factory Platan; Special Design Bureau Salute JSC; Tambov Plant (TZ) “October”; Turayev Machine Building Design Bureau Soyuz; and Zhukovskiy Central Aerohydrodynamics Institute (TsAGI). These entities are being added to the Entity List consistent with BIS's response to Russia's invasion of Ukraine, which include restricting Russia's access to items subject to the EAR that allow it to project power and fulfill its strategic ambitions. Specifically, BIS is adding these entities to the Entity List for acquiring and attempting to acquire items subject to the EAR in support of Russia's military modernization efforts. These entities will be added to the Entity List with a license requirement for all items subject to the EAR. BIS will review license applications under a policy of denial. No license exceptions are available for exports, reexports, or transfers (in-country) to the entities being added.

For the reasons described above, this final rule adds the following 120 entities under 120 entries to the Entity List and includes, where appropriate, aliases:

Belarus

• 140 Repair Plant JSC,

• 558 Aircraft Repair Plant JSC,

• 2566 Radioelectronic Armament Repair Plant JSC,

• AGAT—Control Systems—Managing Company of Geoinformation Control Systems Holding JSC,

• Agat-Electromechanical Plant OJSC,

• AGAT-SYSTEM,

• ATE-Engineering LLC,

• BelOMO Holding,

• Belspetsvneshtechnika SFTUE,

• BSVT-New Technologies,

• CJSC Beltechexport,

• Department of Internal Affairs of the Gomel Region Executive Committee,

• Internal Troops of The Ministry of Internal Affairs of the Republic of Belarus,

• JSC Transaviaexport Airlines,

• KGB Alpha,

• Kidma Tech OJSC,

• Minotor-Service,

• Minsk Wheeled Tractor Plant,

• Oboronnye Initsiativy LLC,

• OJS KB Radar Managing Company,

• Peleng JSC,

• State Authority for Military Industry of the Republic of Belarus,

• State Security Committee of the Republic of Belarus, and

• Volatavto OJSC.

Russia

• 5th Shipyard,

• 46th TSNII Central Scientific Research Institute,

• Alagir Resistor Factory,

• All Russia Scientific Research Institute of Optical Physical Measurements,

• All-Russian Scientific-Research Institute Etalon JSC,

• Almaz JSC,

• Arzam Scientific Production Enterprise Temp Avia,

• Automated Procurement System for State Defense Orders, LLC,

• Dolgoprudniy Design Bureau of Automatics,

• Electronic Computing Technology Scientific-Research Center,

• Electrosignal JSC,

• Engineering Center Moselectronproekt,

• Etalon Scientific and Production Association,

• Evgeny Krayushin,

• Far-East Factory Zvezda,

• Federal Center for Dual-Use Technology (FTsDT) Soyuz,

• Foreign Trade Association Mashpriborintorg, Ineko LLC,

• Ineko LLC

• Informakustika JSC,

• Institute of High Energy Physics,

• Institute of Theoretical and Experimental Physics,

• Inteltech PJSC,

• ISE SO RAN Institute of High-Current Electronics,

• Joint Stock Company NPO Elektromechaniki,

• JSC Energiya,

• Kaluga Scientific-Research Institute of Telemechanical Devices JSC,

• Kulon Scientific-Research Institute JSC,

• Lutch Design Office JSC,

• Meteor Plant JSC,

• Moscow Communications Research Institute JSC,

• Moscow Order of the Red Banner of Labor Research Radio Engineering Institute JSC,

• OJSC Pella Shipyard,

• Omsk Production Union Irtysh JSC,

• Omsk Scientific-Research Institute of Instrument Engineering JSC,

• Optron JSC,

• Polyot Chelyabinsk Radio Plant JSC,

• Pskov Distance Communications Equipment Plant,

• Radiozavod JSC,

• Razryad JSC,

• Research Production Association Mars,

• Ryazan Radio-Plant,

• Scientific-Production Association and Scientific-Research Institute of Radio-Components,

• Scientific Production Center Vigstar JSC,

• Scientific-Production Enterprise Almaz JSC,

• Scientific-Production Enterprise “Kant”,

• Scientific Production Enterprise “Radiosviaz”,

• Scientific-Production Enterprise Salyut JSC,

• Scientific-Production Enterprise “Svyaz”,

• Scientific-Production Enterprise Volna,

• Scientific-Production Enterprise Vostok JSC,

• Scientific-Research Institute and Factory Platan,

• Scientific-Research Institute “Argon”,

• Scientific Research Institute Ferrite-Domen,

• Scientific-Research Institute of Automated Systems and Communications Complexes Neptune JSC,

• Scientific Research Institute of Communication Management Systems,

• Special Design and Technical Bureau for Relay Technology,

• Special Design Bureau Salute JSC,

• Tactical Missile Corporation, 711 Aircraft Repair Plant (711 ARZ),

• Tactical Missile Corporation, AO GNPP “Region”,

• Tactical Missile Corporation, AO TMKB “Soyuz”,

• Tactical Missile Corporation, Azov Optical and Mechanical Plant,

• Tactical Missile Corporation, “Central Design Bureau of Automation”,

• Tactical Missile Corporation, Concern “MPO—Gidropribor”,

• Tactical Missile Corporation, Joint Stock Company Avangard,

• Tactical Missile Corporation, Joint Stock Company Concern Granit-Electron,

• Tactical Missile Corporation, Joint Stock Company Elektrotyaga,

• Tactical Missile Corporation, Joint Stock Company GosNIIMash,

• Tactical Missile Corporation, Joint Stock Company PA Strela,

• Tactical Missile Corporation, Joint Stock Company “Plant Dagdiesel”,

• Tactical Missile Corporation, Joint Stock Company Plant Kulakov,

• Tactical Missile Corporation, Joint Stock Company Ravenstvo,

• Tactical Missile Corporation, Joint Stock Company Ravenstvo-service,

• Tactical Missile Corporation, Joint-Stock Company “Research Center for Automated Design”,

• Tactical Missile Corporation, Joint Stock Company “Salute”,

• Tactical Missile Corporation, Joint Stock Company Saratov Radio Instrument Plant,

• Tactical Missile Corporation Joint Stock Company “Scientific Research Institute of Marine Heat Engineering”,

• Tactical Missile Corporation, Joint Stock Company Severny Press,

• Tactical Missile Corporation, Joint Stock Company “State Machine Building Design Bureau “Vympel” By Name I.I. Toropov”,

• Tactical Missile Corporation, Joint Stock Company “URALELEMENT”,

• Tactical Missile Corporation JSC “KRASNY GIDROPRESS”,

• Tactical Missile Corporation, KB Mashinostroeniya,

• Tactical Missile Corporation, NPO Electromechanics,

• Tactical Missile Corporation, NPO Lightning,

• Tactical Missile Corporation, Petrovsky Electromechanical Plant “Molot”,

• Tactical Missile Corporation, PJSC ANPP Temp Avia,

• Tactical Missile Corporation, PJSC “MBDB ISKRA”,

• Tactical Missile Corporation, Raduga Design Bureau,

• Tactical Missile Corporation, RKB Globus,

• Tactical Missile Corporation, Smolensk Aviation Plant,

• Tactical Missile Corporation, TRV Engineering,

• Tactical Missile Corporation, Ural Design Bureau “Detal”,

• Tactical Missile Corporation, Zvezda-Strela Limited Liability Company,

• Tambov Plant (TZ) “October”,

• Turayev Machine Building Design Bureau Soyuz,

• United Shipbuilding Corporation “Production Association Northern Machine Building Enterprise”, and

• Zhukovskiy Central Aerohydrodynamics Institute (TsAGI).

In summary, for the 120 entities added to the Entity List by this final rule, BIS imposes a license requirement that applies to all items subject to the EAR. For the 95 entities added under both §§ 744.11 and 744.21, BIS is also listing those entities with a footnote 3 designation. No license exceptions are available for exports, reexports, exports from abroad (as described under Russia/Belarus foreign “direct product” (FDP) rule, § 746.8(a)(3)), or transfers (in-country) to these entities; BIS will review all license applications for these entities under a policy of denial.

For the 25 entities added solely on the basis of § 744.11, BIS is not listing those entities with a footnote 3 designation. No license exceptions are available for exports, reexports, or transfers (in-country) to these entities. BIS will review all license applications for these entities under a policy of denial.

Savings Clause

For the changes being made in this final rule, shipments of items removed from eligibility for a License Exception or export, reexport, or transfer (in-country) without a license (NLR) as a result of this regulatory action that were en route aboard a carrier to a port of export, reexport, or transfer (in-country), on April 1, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.6 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended:

a. Under BELARUS by adding, in alphabetical order, entries for “140 Repair Plant JSC,” “558 Aircraft Repair Plant JSC,” “2566 Radioelectronic Armament Repair Plant JSC,” “AGAT—Control Systems—Managing Company of Geoinformation Control Systems Holding JSC,” “Agat-Electromechanical Plant OJSC,” “AGAT-SYSTEM,” “ATE-Engineering LLC,” “BelOMO Holding,” “Belspetsvneshtechnika SFTUE,” “BSVT-New Technologies,” “CJSC Beltechexport,” “Department of Internal Affairs of the Gomel Region Executive Committee,” “Internal Troops of The Ministry of Internal Affairs of the Republic of Belarus,” “JSC Transaviaexport Airlines,” “KGB Alpha,” “Kidma Tech OJSC,” “Minotor-Service,” “Minsk Wheeled Tractor Plant,” “Oboronnye Initsiativy LLC,” “OJS KB Radar Managing Company,” “Peleng JSC,” “State Authority for Military Industry of the Republic of Belarus,” “State Security Committee of the Republic of Belarus,” and “Volatavto OJSC”.

b. Under RUSSIA by adding, in alphabetical order, entries for “5th Shipyard,” “46th TSNII Central Scientific Research Institute,” “Alagir Resistor Factory,” “All Russia Scientific Research Institute of Optical Physical Measurements,” “All-Russian Scientific-Research Institute Etalon JSC,” “Almaz JSC,” “Arzam Scientific Production Enterprise Temp Avia,” “Automated Procurement System for State Defense Orders, LLC,” “Dolgoprudniy Design Bureau of Automatics,” “Electronic Computing Technology Scientific-Research Center,” “Electrosignal JSC,” “Engineering Center Moselectronproekt,” “Etalon Scientific and Production Association,” “Evgeny Krayushin,” “Far-East Factory Zvezda,” “Federal Center for Dual-Use Technology (FTsDT) Soyuz,” “Foreign Trade Association Mashpriborintorg,” “Ineko LLC,” “Informakustika JSC,” “Institute of High Energy Physics,” “Institute of Theoretical and Experimental Physics,” “Inteltech PJSC,” “ISE SO RAN Institute of High-Current Electronics,” “Joint Stock Company NPO Elektromechaniki,” “JSC Energiya,” “Kaluga Scientific-Research Institute of Telemechanical Devices JSC,” “Kulon Scientific-Research Institute JSC,” “Lutch Design Office JSC,” “Meteor Plant JSC,” “Moscow Communications Research Institute JSC,” “Moscow Order of the Red Banner of Labor Research Radio Engineering Institute JSC,” “OJSC Pella Shipyard,” “Omsk Production Union Irtysh JSC,” “Omsk Scientific-Research Institute of Instrument Engineering JSC,” “Optron JSC,” “Polyot Chelyabinsk Radio Plant JSC,” “Pskov Distance Communications Equipment Plant,” “Radiozavod JSC,” “Razryad JSC,” “Research Production Association Mars,” “Ryazan Radio-Plant,” “Scientific-Production Association and Scientific-Research Institute of Radio-Components,” “Scientific Production Center Vigstar JSC,” “Scientific-Production Enterprise Almaz JSC,” “Scientific-Production Enterprise “Kant”,” “Scientific Production Enterprise “Radiosviaz”,” “Scientific-Production Enterprise Salyut JSC,” “Scientific-Production Enterprise “Svyaz”,” “Scientific-Production Enterprise Volna,” “Scientific-Production Enterprise Vostok JSC,” “Scientific-Research Institute and Factory Platan,” “Scientific-Research Institute “Argon”,” “Scientific Research Institute Ferrite-Domen,” “Scientific-Research Institute of Automated Systems and Communications Complexes Neptune JSC,” “Scientific Research Institute of Communication Management Systems,” “Special Design and Technical Bureau for Relay Technology,” “Special Design Bureau Salute JSC,” “Tactical Missile Corporation, 711 Aircraft Repair Plant (711 ARZ),” “Tactical Missile Corporation, AO GNPP “Region”,” “Tactical Missile Corporation, AO TMKB “Soyuz”,” “Tactical Missile Corporation, Azov Optical and Mechanical Plant,” “Tactical Missile Corporation, “Central Design Bureau of Automation”,” “Tactical Missile Corporation, Concern “MPO—Gidropribor”,” “Tactical Missile Corporation, Joint Stock Company Avangard,” “Tactical Missile Corporation, Joint Stock Company Concern Granit-Electron,” “Tactical Missile Corporation, Joint Stock Company Elektrotyaga,” “Tactical Missile Corporation, Joint Stock Company GosNIIMash,” “Tactical Missile Corporation, Joint Stock Company PA Strela,” “Tactical Missile Corporation, Joint Stock Company “Plant Dagdiesel”,” “Tactical Missile Corporation, Joint Stock Company Plant Kulakov,” “Tactical Missile Corporation, Joint Stock Company Ravenstvo,” “Tactical Missile Corporation, Joint Stock Company Ravenstvo-service,” “Tactical Missile Corporation, Joint-Stock Company “Research Center for Automated Design”,” “Tactical Missile Corporation, Joint Stock Company “Salute”,” “Tactical Missile Corporation, Joint Stock Company Saratov Radio Instrument Plant,” “Tactical Missile Corporation Joint Stock Company “Scientific Research Institute of Marine Heat Engineering”,” “Tactical Missile Corporation, Joint Stock Company Severny Press,” “Tactical Missile Corporation, Joint Stock Company “State Machine Building Design Bureau “Vympel” By Name I.I. Toropov”,” “Tactical Missile Corporation, Joint Stock Company “URALELEMENT”,” “Tactical Missile Corporation JSC “KRASNY GIDROPRESS”,” “Tactical Missile Corporation, KB Mashinostroeniya,” “Tactical Missile Corporation, NPO Electromechanics,” “Tactical Missile Corporation, NPO Lightning,” “Tactical Missile Corporation, Petrovsky Electromechanical Plant “Molot”,” “Tactical Missile Corporation, PJSC ANPP Temp Avia,” “Tactical Missile Corporation, PJSC “MBDB ISKRA”,” “Tactical Missile Corporation, Raduga Design Bureau,” “Tactical Missile Corporation, RKB Globus,” “Tactical Missile Corporation, Smolensk Aviation Plant,” “Tactical Missile Corporation, TRV Engineering,” “Tactical Missile Corporation, Ural Design Bureau “Detal”,” “Tactical Missile Corporation, Zvezda-Strela Limited Liability Company,” “Tambov Plant (TZ) “October”,” “Turayev Machine Building Design Bureau Soyuz,” “United Shipbuilding Corporation “Production Association Northern Machine Building Enterprise”,” and “Zhukovskiy Central Aerohydrodynamics Institute (TsAGI)”.

The additions read as follows:

Supplement No. 4 to Part 744—Entity List

* * * * *

Country | Entity | License requirement | License review policy | Federal Register citation
* * * * * * *
BELARUS | 140 Repair Plant JSC, a.k.a., the following two aliases: —Open Joint Stock Company 140 Repair Plant; and —JSC 140 Repair Plant. 19 Luysi Chalovskoy St., Borisov, 222512, Belarus. | For all items subject to the EAR. (See §§ 734.9(g),³ 746.8(a)(3), and 744.21(b) of the EAR) | Policy of Denial | 87 FR [INSERT FR PAGE NUMBER AND 4/7/2022].
| 558 Aircraft Repair Plant JSC, a.k.a., the following one alias: —JSC 558 ARP. 7 50 Years VLKSM St., Baranovichi, Brest region, 225320, Belarus. | For all items subject to the EAR. (See §§ 734.9(g),³ 746.8(a)(3), and 744.21(b) of the EAR) | Policy of Denial | 87 FR [INSERT FR PAGE NUMBER AND 4/7/2022].
| 2566 Radioelectronic Armament Repair Plant JSC, a.k.a., the following one alias: —JSC 2566 ZRREV. 54 Gagarina St., Borisov, 222511, Belarus. | For all items subject to the EAR. (See §§ 734.9(g),³ 746.8(a)(3), and 744.21(b) of the EAR) | Policy of Denial | 87 FR [INSERT FR PAGE NUMBER AND 4/7/2022].
| AGAT—Control Systems—Managing Company of Geoinformation Control Systems Holding JSC, a.k.a., the following one alias: —AGAT—Control Systems. 117/1 Nezavisimosti Ave., Minsk, 220114, Belarus. | For all items subject to the EAR. (See §§ 734.9(g),³ 746.8(a)(3), and 744.21(b) of the EAR) | Policy of Denial | 87 FR [INSERT FR PAGE NUMBER AND 4/7/2022].
| Agat-Electromechanical Plant OJSC, a.k.a., the following two aliases: —JSC Agat Electromechanical Plant; and —Agat-Elektromekhanicheski Zavod. 6 Volgogradskaya St., Minsk, 220012, Belarus; and 117, Bld. 3, Nezavisimosti Ave., Minsk 220114, Belarus. | For all items subject to the EAR. (See §§ 734.9(g),³ 746.8(a)(3), and 744.21(b) of the EAR) | Policy of Denial | 87 FR [INSERT FR PAGE NUMBER AND 4/7/2022].
| AGAT-SYSTEM, 51B Francyska Skaryna St., Minsk, 220141, Belarus. | For all items subject to the EAR. (See §§ 734.9(g),³ 746.8(a)(3), and 744.21(b) of the EAR) | Policy of Denial | 87 FR [INSERT FR PAGE NUMBER AND 4/7/2022].
| ATE-Engineering LLC, 15A Smolenskaya St., Minsk, 220088, Belarus. | For all items subject to the EAR. (See §§ 734.9(g),³ 746.8(a)(3), and 744.21(b) of the EAR) | Policy of Denial | 87 FR [INSERT FR PAGE NUMBER AND 4/7/2022].
| * * * * * *
| BelOMO Holding, a.k.a., the following one alias: —The Belarusian Optical and Mechanical Association. 23 Makaenka St., Minsk, 220114, Belarus. | For all items subject to the EAR. (See §§ 734.9(g),³ 746.8(a)(3), and 744.21(b) of the EAR) | Policy of Denial | 87 FR [INSERT FR PAGE NUMBER AND 4/7/2022].
| Belspetsyneshtechnika SFTUE, a.k.a., the following two aliases: —State-Owned Foreign Trade Unitary Enterprise Belspetsvneshtechnika; and —BSVT. 8 Kalinovsky St., Minks, 220103, Belarus. | For all items subject to the EAR. (See §§ 734.9(g),³ 746.8(a)(3), and 744.21(b) of the EAR) | Policy of Denial | 87 FR [INSERT FR PAGE NUMBER AND 4/7/2022].
| Beltechexport, CJSC, 86-B Nezavisimosti Ave., Minks, 220012, Belarus. | For all items subject to the EAR. (See §§ 734.9(g),³ 746.8(a)(3), and 744.21(b) of the EAR) | Policy of Denial | 87 FR [INSERT FR PAGE NUMBER AND 4/7/2022].
| BSVT-New Technologies, 187 Soltysa Street, Minsk, Belarus. | For all items subject to the EAR. (See §§ 734.9(g),³ 746.8(a)(3), and 744.21(b) of the EAR) | Policy of Denial | 87 FR [INSERT FR PAGE NUMBER AND 4/7/2022].
| Department of Internal Affairs of the Gomel Region Executive Committee, a.k.a., the following one alias: —UVD of the Gomel Region Executive Committee. 3 Kommunarov Street, Gomel, 246050, Belarus. | For all items subject to the EAR. (See §§ 734.9(g),³ 746.8(a)(3), and 744.21(b) of the EAR) | Policy of Denial | 87 FR [INSERT FR PAGE NUMBER AND 4/7/2022].
| Internal Troops of The Ministry of Internal Affairs of the Republic of Belarus, a.k.a., the following one alias: —MVD Internal Troops. 4 Gorodskoi Val, Minsk, 220030, Belarus. | For all items subject to the EAR. (See §§ 734.9(g),³ 746.8(a)(3), and 744.21(b) of the EAR) | Policy of Denial | 87 FR [INSERT FR PAGE NUMBER AND 4/7/2022].
| * * * * * *
| KGB Alpha, a.k.a., the following three aliases: —the State Security Committee Alpha; —Alpha Group; and —Group A. Belarus. | For all items subject to the EAR. (See §§ 734.9(g),³ 746.8(a)(3), and 744.21(b) of the EAR) | Policy of Denial | 87 FR [INSERT FR PAGE NUMBER AND 4/7/2022].
| Kidma Tech OJSC, a.k.a., the following two aliases: —BSVT-New Technologies; and —BSVT-NT. 187 Soltysa Street, Minsk, 220070, Belarus; and 5/1 Ustenskiy Selsovyet, Orshanskiy Region, Vitebskaya Oblast, Ag. Ustye, 211003, Belarus. | For all items subject to the EAR. (See §§ 734.9(g),³ 746.8(a)(3), and 744.21(b) of the EAR) | Policy of Denial | 87 FR [INSERT FR PAGE NUMBER AND 4/7/2022].
| Minotor-Service, a.k.a., the following one alias: —Industrial-Commercial Private Unitary Enterprise Minotor-Service. 40 Radialnaya St., Minsk, 220070, Belarus. | For all items subject to the EAR. (See §§ 734.9(g),³ 746.8(a)(3), and 744.21(b) of the EAR) | Policy of Denial | 87 FR [INSERT FR PAGE NUMBER AND 4/7/2022].
| Minsk Wheeled Tractor Plant, a.k.a., the following two aliases: —MZKT; and —Production Republican Unitary Enterprise Minsk Wheeled Tractor Plant. 150 Partizansky Avenue, Minsk, 220021, Belarus. | For all items subject to the EAR. (See §§ 734.9(g),³ 746.8(a)(3), and 744.21(b) of the EAR) | Policy of Denial | 87 FR [INSERT FR PAGE NUMBER AND 4/7/2022].
| * * * * * *
| Oboronnye Initsiativy LLC, a.k.a., the following one alias: —LLC Defense Initiatives. 18 1st Lane F. Skaryna, Minsk, 220070, Belarus. | For all items subject to the EAR. (See §§ 734.9(g),³ 746.8(a)(3), and 744.21(b) of the EAR) | Policy of Denial | 87 FR [INSERT FR PAGE NUMBER AND 4/7/2022].
| OJS KB Radar Managing Company, a.k.a., the following two aliases: —JSC KB Radar; and — KB Radar. 64A Partizanskyi Prospect, Minsk, 220026, Belarus. | For all items subject to the EAR. (See §§ 734.9(g),³ 746.8(a)(3), and 744.21(b) of the EAR) | Policy of Denial | 87 FR [INSERT FR PAGE NUMBER AND 4/7/2022].
| Peleng JSC, 25 Makaenka St., Minsk, 220114, Belarus. | For all items subject to the EAR. (See §§ 734.9(g),³ 746.8(a)(3), and 744.21(b) of the EAR) | Policy of Denial | 87 FR [INSERT FR PAGE NUMBER AND 4/7/2022].
| * * * * * *
| State Authority for Military Industry of the Republic of Belarus, 115 Nezavisimosti Avenue, Minsk, 220114, Belarus. | For all items subject to the EAR. (See §§ 734.9(g),³ 746.8(a)(3), and 744.21(b) of the EAR) | Policy of Denial | 87 FR [INSERT FR PAGE NUMBER AND 4/7/2022].
| State Security Committee of the Republic of Belarus, 17 Nezavisimosti Avenue, Minsk, 220030, Belarus. | For all items subject to the EAR. (See §§ 734.9(g),³ 746.8(a)(3), and 744.21(b) of the EAR) | Policy of Denial | 87 FR [INSERT FR PAGE NUMBER AND 4/7/2022].
| * * * * * *
| Transaviaexport Airlines JSC, 44 Zakhariva Street, Minsk, 220034, Republic of Belarus. | For all items subject to the EAR. (See §§ 734.9(g),³ 746.8(a)(3), and 744.21(b) of the EAR) | Policy of Denial | 87 FR [INSERT FR PAGE NUMBER AND 4/7/2022].
| * * * * * *
| Volatavto OJSC, a.k.a., the following one alias: —NPP VOLATauto. 2/1 Kulman St., Office 1-143, Minsk, 220013, Belarus; and 133 Socialist Street, Slutsk, Minsk Region, 223610, Belarus. | For all items subject to the EAR. (See §§ 734.9(g),³ 746.8(a)(3), and 744.21(b) of the EAR) | Policy of Denial | 87 FR [INSERT FR PAGE NUMBER AND 4/7/2022].
* * * * * * *
RUSSIA | 5th Shipyard, a.k.a., the following three aliases: —5-y Sudoremontnyy Zavod; —5 SRZ; and —JSC GF 5 SRZ JSC TsS Zvezdochka. 67 Lenina Street, Port, Temryuk, Krasnodarskiy Kray, 353500, Russia. | For all items subject to the EAR. (See §§ 734.9(g),³ 746.8(a)(3), and 744.21(b) of the EAR) | Policy of Denial | 87 FR [INSERT FR PAGE NUMBER AND 4/7/2022].
| * * * * * *
| 46th TSNII Central Scientific Research Institute, a.k.a., the following two aliases: —46 TsNII; and —46 TsNII MO RF. 10 Chukotskiy Proyezd, Moscow, 129327, Russia. | For all items subject to the EAR. (See § 744.11 of the EAR) | Policy of Denial | 87 FR [INSERT FR PAGE NUMBER AND 4/7/2022].
| * * * * * *
| Alagir Resistor Factory, a.k.a., the following one alias: —Alagirsky Resistor Factory. 202 L. Tolstogo Street, Alagir, Alagirsky District, Severnaya Ossetia-Alania Republic, Russia, 363240. | For all items subject to the EAR. (See §§ 734.9(g),³ 746.8(a)(3), and 744.21(b) of the EAR) | Policy of Denial | 87 FR [INSERT FR PAGE NUMBER AND 4/7/2022].
| * * * * * *
| All Russia Scientific Research Institute of Optical Physical Measurements, a.k.a., the following two aliases: —All-Russian Research Institute for Optical and Physical Measurements Federal State Unitary Enterprise; and —FSUE VNIIOFI. 46 Ozernaya St., Moscow, 119361, Russia. | For all items subject to the EAR. (See § 744.11 of the EAR) | Policy of Denial | 87 FR [INSERT FR PAGE NUMBER AND 4/7/2022].
| All-Russian Scientific-Research Institute Etalon JSC, a.k.a., the following one alias: —VNII Etalon JSC. 19/1 1st Yamskogo Polya St., Moscow, 125124, Russia. | For all items subject to the EAR. (See §§ 734.9(g),³ 746.8(a)(3), and 744.21(b) of the EAR) | Policy of Denial | 87 FR [INSERT FR PAGE NUMBER AND 4/7/2022].
| * * * * * *
| Almaz JSC, a.k.a., the following one alias: —Almaz. 16 Tupoleva Street, Rostov-na-Donu, Rostovskaya Oblast, 344093, Russia. | For all items subject to the EAR. (See §§ 734.9(g),³ 746.8(a)(3), and 744.21(b) of the EAR) | Policy of Denial | 87 FR [INSERT FR PAGE NUMBER AND 4/7/2022].
| * * * * * *
| Arzam Scientific Production Enterprise Temp Avia, a.k.a., the following three aliases: —OKB Temp; —Temp-Avia Arzamas Research and Production Association JSC; and —ANPP Temp-Avia. 26 Kirova St., Arzamas, 607220, Russia. | For all items subject to the EAR. (See § 744.11 of the EAR) | Policy of Denial | 87 FR [INSERT FR PAGE NUMBER AND 4/7/2022].
| * * * * * *
| Automated Procurement System for State Defense Orders, LLC, a.k.a., the following one alias: —AST GOZ LLC. 78/1 Profsoyuznaya St., Moscow, 117393, Russia. | For all items subject to the EAR. (See § 744.11 of the EAR) | Policy of Denial | 87 FR [INSERT FR PAGE NUMBER AND 4/7/2022].
| * * * * * *
| Dolgoprudniy Design Bureau of Automatics, a.k.a., the following three aliases: —DKBA JSC; —Dolgoprudny; and —Dolgoprudno Design Bureau of Automation. Lyotnaya Street, Dolgoprudniy, Moskovskaya Oblast, 141700, Russia. | For all items subject to the EAR. (See §§ 734.9(g),³ 746.8(a)(3), and 744.21(b) of the EAR) | Policy of Denial | 87 FR [INSERT FR PAGE NUMBER AND 4/7/2022].
| * * * * * *
| Electronic Computing Technology Scientific-Research Center, a.k.a., the following one alias: —NICEVEY. 125 Varshavskoye Highway, Moscow, 117587, Russia. | For all items subject to the EAR. (See §§ 734.9(g),³ 746.8(a)(3), and 744.21(b) of the EAR) | Policy of Denial | 87 FR [INSERT FR PAGE NUMBER AND 4/7/2022].
| Electrosignal JSC, Electrosignalnaya Street, Voronezh, Voronezhskaya Oblast, 394026, Russia. | For all items subject to the EAR. (See §§ 734.9(g),³ 746.8(a)(3), and 744.21(b) of the EAR) | Policy of Denial | 87 FR [INSERT FR PAGE NUMBER AND 4/7/2022].
| * * * * * *
| Engineering Center Moselectronproekt, a.k.a., the following two aliases: —Moselectronproekt (JSC); and —MosEP JSC. 12 Kosmonavta Volkova St., Room 22, Moscow, 127299, Russia. | For all items subject to the EAR. (See § 744.11 of the EAR) | Policy of Denial | 87 FR [INSERT FR PAGE NUMBER AND 4/7/2022].
| Etalon Scientific and Production Association, a.k.a., the following one alias: —NPO Etalon. 3 Tsentralny Proezd, Dobryanka, Perm Territory, Russia. | For all items subject to the EAR. (See § 744.11 of the EAR) | Policy of Denial | 87 FR [INSERT FR PAGE NUMBER AND 4/7/2022].
| * * * * * *
| Evgeny Krayushin, Building 41, 3 Zheleznodorozhniy Lane, Dmitrov, Moscow, Russia; and 9 Melitopolskaya ul., Str. 3, Moscow, Russia. | For all items subject to the EAR. (See § 744.11 of the EAR) | Policy of Denial | 87 FR [INSERT FR PAGE NUMBER AND 4/7/2022].
| * * * * * *
| Far-East Factory Zvezda, a.k.a., the following one alias: —AO FEP Zvezda. 1 Stepan Lebedev St., Bolshoy Kamen, Primorsky krai, 692801, Russia. | For all items subject to the EAR. (See § 744.11 of the EAR) | Policy of Denial | 87 FR [INSERT FR PAGE NUMBER AND 4/7/2022].
| * * * * * *
| Federal Center for Dual-Use Technology (FTsDT) Soyuz, a.k.a., the following one alias: —FSUE FCDT Soyuz. 42 Academician Zhukov St., Dzerzhinsky, 140090, Russia. | For all items subject to the EAR. (See § 744.11 of the EAR) | Policy of Denial | 87 FR [INSERT FR PAGE NUMBER AND 4/7/2022].
| * * * * * *
| Foreign Trade Association Mashpriborintorg, a.k.a., the following one alias: —FTA Mashpriborintorg JSC. 3 Sherbakovskaya St., Moscow, 105318, Russia. | For all items subject to the EAR. (See § 744.11 of the EAR) | Policy of Denial | 87 FR [INSERT FR PAGE NUMBER AND 4/7/2022].
| * * * * * *
| Ineko LLC, a.k.a., the following one alias: —OOO Ineko. Building 41, 3 Zheleznodorozhniy Lane, Dmitrov, Moscow, Russia; and 9 Melitopolskaya ul., Str. 3, Moscow, Russia. | For all items subject to the EAR. (See § 744.11 of the EAR) | Policy of Denial | 87 FR [INSERT FR PAGE NUMBER AND 4/7/2022].
| Informakustika JSC, 22A Polytechnic St., St. Petersburg, 194021, Russia. | For all items subject to the EAR. (See § 744.11 of the EAR) | Policy of Denial | 87 FR [INSERT FR PAGE NUMBER AND 4/7/2022].
| * * * * * *
| Institute of High Energy Physics, a.k.a., the following two aliases: —IHEP; and —Kurchatovskiy Institute ITEF. 1/1 Pobeda St., Science Square, Protvino Moskovskaya Oblast, 142281, Russia. | For all items subject to the EAR. (See § 744.11 of the EAR) | Policy of Denial | 87 FR [INSERT FR PAGE NUMBER AND 4/7/2022].
| Institute of Theoretical and Experimental Physics, a.k.a., the following three aliases: —ITEP; —ITEF; and —Kurchatovskiy Institute ITEF. 25 Bolshaya Cheremushkinskaya St., 117218; and 24 Sevastopolskiy Avenue, Moscow, 117186, Russia. | For all items subject to the EAR. (See § 744.11 of the EAR) | Policy of Denial | 87 FR [INSERT FR PAGE NUMBER AND 4/7/2022].
| * * * * * *
| Inteltech PJSC, a.k.a., the following three aliases: —Information Telecommunications Technology PJSC; —Inteltech; and —Inteltekh. Electrosignalnaya Street, Voronezh, Voronezhskaya Oblast, 394026, Russia. | For all items subject to the EAR. (See §§ 734.9(g),³ 746.8(a)(3), and 744.21(b) of the EAR) | Policy of Denial | 87 FR [INSERT FR PAGE NUMBER AND 4/7/2022].
| * * * * * *
| ISE SO RAN Institute of High-Current Electronics, a.k.a., the following three aliases: —Institute of High Current Electronics Siberian Branch Russian Academy of Science —IHCE; and —IHCE SB RAS. 2/3 Prospekt Akeademicheskiy, Tomsk, 634055, Russia. | For all items subject to the EAR. (See § 744.11 of the EAR) | Policy of Denial | 87 FR [INSERT FR PAGE NUMBER AND 4/7/2022].
| * * * * * *
| Joint Stock Company NPO Elektromechaniki, a.k.a., the following one alias: —JSC Scientific and Production Association of Electro Mechanic. 31 Mendeleeva street, Miass, Chelyabinsk Region, 456320, Russia. | For all items subject to the EAR. (See §§ 734.9(g),³ 746.8(a)(3), and 744.21(b) of the EAR) | Policy of Denial | 87 FR [INSERT FR PAGE NUMBER AND 4/7/2022].
| * * * * * *
| JSC Energiya, 1 Elektrik St., Yelets, Lipetskaya Oblast, 399775, Russia. | For all items subject to the EAR. (See § 744.11 of the EAR) | Policy of Denial | 87 FR [INSERT FR PAGE NUMBER AND 4/7/2022].
| * * * * * *
| Kaluga Scientific-Research Institute of Telemechanical Devices JSC, a.k.a., the following one alias: —KNIITMU JSC. 4 Karla Marksa St., Kaluga, 248000, Russia. | For all items subject to the EAR. (See § 744.11 of the EAR) | Policy of Denial | 87 FR [INSERT FR PAGE NUMBER AND 4/7/2022].
| * * * * * *
| Kulon Scientific-Research Institute JSC, a.k.a., the following one alias: —NII Kulon JSC. 14 Murmankiv proezd, Moscow, 129075, Russia. | For all items subject to the EAR. (See §§ 734.9(g),³ 746.8(a)(3), and 744.21(b) of the EAR) | Policy of Denial | 87 FR [INSERT FR PAGE NUMBER AND 4/7/2022].
| * * * * * *
| Lutch Design Office JSC, a.k.a., the following three aliases: —Lutch Design Bureau JCS; —Lutch JSC; and —KB-Lutch. 25 Pobeda Blvd. Rybinsk, Yaroslavskaya Oblast, 152920, Russia. | For all items subject to the EAR. (See §§ 734.9(g),³ 746.8(a)(3), and 744.21(b) of the EAR) | Policy of Denial | 87 FR [INSERT FR PAGE NUMBER AND 4/7/2022].
| * * * * * *
| Meteor Plant JSC, 1 Gorky St., Volzhkiy, Volgograd Oblast, 404130, Russia. | For all items subject to the EAR. (See §§ 734.9(g),³ 746.8(a)(3), and 744.21(b) of the EAR) | Policy of Denial | 87 FR [INSERT FR PAGE NUMBER AND 4/7/2022].
| * * * * * *
| Moscow Communications Research Institute JSC, a.k.a., the following one alias: —MNIIS JSC. 34 Kutuzovsky prospect, Moscow, Russia, 121170; and 3/2 Kirovogradsky proezd, Moscow, 109044, Russia. | For all items subject to the EAR. (See §§ 734.9(g),³ 746.8(a)(3), and 744.21(b) of the EAR) | Policy of Denial | 87 FR [INSERT FR PAGE NUMBER AND 4/7/2022].
| * * * * * *
| Moscow Order of the Red Banner of Labor Research Radio Engineering Institute JSC, a.k.a., the following one alias: —MNIRTI JSC. 2/1 Boshoy Trehsvyatitelskiy per., Moscow, 109028, Russia. | For all items subject to the EAR. (See §§ 734.9(g),³ 746.8(a)(3), and 744.21(b) of the EAR) | Policy of Denial | 87 FR [INSERT FR PAGE NUMBER AND 4/7/2022].
| * * * * * *
| OJSC Pella Shipyard, a.k.a., the following one alias: —OJSC Leningrad Shipyard Pella. 4 Tsentralnaya St., Kirovski raion, Otradnoe, Leningradskaya Obl., 187330, Russia. | For all items subject to the EAR. (See § 744.11 of the EAR) | Policy of Denial | 87 FR [INSERT FR PAGE NUMBER AND 4/7/2022].
| * * * * * *
| Omsk Production Union Irtysh JSC, a.k.a., the following one alias: —OmPO Irtysh. 18 Gurt'yeva St., Omsk, 644060, Russia. | For all items subject to the EAR. (See §§ 734.9(g),³ 746.8(a)(3), and 744.21(b) of the EAR) | Policy of Denial | 87 FR [INSERT FR PAGE NUMBER AND 4/7/2022].
| Omsk Scientific-Research Institute of Instrument Engineering JSC, a.k.a., the following one alias: —JSC ONIP. 231 Maslennikova St., Omsk, 644009, Russia. | For all items subject to the EAR. (See §§ 734.9(g),³ 746.8(a)(3), and 744.21(b) of the EAR) | Policy of Denial | 87 FR [INSERT FR PAGE NUMBER AND 4/7/2022].
| * * * * * *
| Optron JSC, 53 Sherbakovskaya St., Office 37, Moscow, 105187, Russia. | For all items subject to the EAR. (See §§ 734.9(g),³ 746.8(a)(3), and 744.21(b) of the EAR) | Policy of Denial | 87 FR [INSERT FR PAGE NUMBER AND 4/7/2022].
| * * * * * *
| Polyot Chelyabinsk Radio Plant JSC, a.k.a., the following one alias: —ChRZ Polyot (flight) JSC. 6 Ternopol'skaya St., Chelyabinsk, 454126, Russia. | For all items subject to the EAR. (See §§ 734.9(g),³ 746.8(a)(3), and 744.21(b) of the EAR) | Policy of Denial | 87 FR [INSERT FR PAGE NUMBER AND 4/7/2022].
| * * * * * *
| Pskov Distance Communications Equipment Plant, a.k.a., the following two aliases: —Pskov Plant ADS JSC; and —Pskov Distance Communications Equipment (ADS) Plant JSC. 4 Yuri Gagarin Street, Pskov, Pskovskaya Oblast, 180004, Russia. | For all items subject to the EAR. (See §§ 734.9(g),³ 746.8(a)(3), and 744.21(b) of the EAR) | Policy of Denial | 87 FR [INSERT FR PAGE NUMBER AND 4/7/2022].
| * * * * * *
| Radiozavod JSC, 1 Baydukova Street, Penza, Penzenskaya Oblast, 440015, Russia. | For all items subject to the EAR. (See §§ 734.9(g),³ 746.8(a)(3), and 744.21(b) of the EAR) | Policy of Denial | 87 FR [INSERT FR PAGE NUMBER AND 4/7/2022].
| * * * * * *
| Razryad JSC, 233 Kosta Avenue, Vladikavkaz, Severnaya Ossetia-Alania Republic, 362035, Russia. | For all items subject to the EAR. (See §§ 734.9(g),³ 746.8(a)(3), and 744.21(b) of the EAR) | Policy of Denial | 87 FR [INSERT FR PAGE NUMBER AND 4/7/2022].
| * * * * * *
| Research Production Association Mars, a.k.a., the following two aliases: —RPA Mars; and —NPO Mars. 20 Solnechnaya Street, Ulyanovsk, 432022, Russia. | For all items subject to the EAR. (See §§ 734.9(g),³ 746.8(a)(3), and 744.21(b) of the EAR) | Policy of Denial | 87 FR [INSERT FR PAGE NUMBER AND 4/7/2022].
| * * * * * *
| Ryazan Radio-Plant, 11 Lermontova Street, Ryazan, Ryazanskaya Oblast, 390023, Russia. | For all items subject to the EAR. (See §§ 734.9(g),³ 746.8(a)(3), and 744.21(b) of the EAR) | Policy of Denial | 87 FR [INSERT FR PAGE NUMBER AND 4/7/2022].
| * * * * * *
| Scientific-Production Association and Scientific-Research Institute of Radio-Components, a.k.a., the following one alias: —NIIRK. 3 Krymsky Val Street, Building 1, Office 1, Moscow, 119049, Russia. | For all items subject to the EAR. (See §§ 734.9(g),³ 746.8(a)(3), and 744.21(b) of the EAR) | Policy of Denial | 87 FR [INSERT FR PAGE NUMBER AND 4/7/2022].
| Scientific Production Center Vigstar JSC, a.k.a., the following two aliases: —AO Nauchno-proizvodstvennyy tsentr Vigstar; and —JSC SRC Vigstar. 8 1st Dorozhnyy proyezd, Moscow, 117545, Russia. | For all items subject to the EAR. (See § 744.11 of the EAR) | Policy of Denial | 87 FR [INSERT FR PAGE NUMBER AND 4/7/2022].
| Scientific-Production Enterprise Almaz JSC, a.k.a., the following one alias: —JSC NPP Almaz. 1 I.V. Panfilov St., Saratov, 410033, Russia. | For all items subject to the EAR. (See §§ 734.9(g),³ 746.8(a)(3), and 744.21(b) of the EAR) | Policy of Denial | 87 FR [INSERT FR PAGE NUMBER AND 4/7/2022].
| Scientific-Production Enterprise “Kant”, a.k.a., the following two aliases: —Kant; and —NPP Kant. 12 Talalikhina Street Floor 7, Moscow, 109316, Russia. | For all items subject to the EAR. (See §§ 734.9(g),³ 746.8(a)(3), and 744.21(b) of the EAR) | Policy of Denial | 87 FR [INSERT FR PAGE NUMBER AND 4/7/2022].
| Scientific Production Enterprise “Radiosviaz”, a.k.a., the following one alias: —Radiosviaz. 19 Dekabristov Street, Krasnoyarsk, 660021, Russia. | For all items subject to the EAR. (See §§ 734.9(g),³ 746.8(a)(3), and 744.21(b) of the EAR) | Policy of Denial | 87 FR [INSERT FR PAGE NUMBER AND 4/7/2022].
| Scientific-Production Enterprise Salyut JSC, a.k.a., the following one alias: —JSC NPP Salyut. 7 Larina St., Nizhny Novgorod, 603950, Russia. | For all items subject to the EAR. (See § 744.11 of the EAR) | Policy of Denial | 87 FR [INSERT FR PAGE NUMBER AND 4/7/2022].
| Scientific-Production Enterprise “Svyaz”, a.k.a., the following two aliases: —Svyaz; and —NPP Svyaz. 19 Shkolnaya Street, Yasnaya Polyana Village, Shekinsky District, Tulskaya Oblast, 301214, Russia. | For all items subject to the EAR. (See §§ 734.9(g),³ 746.8(a)(3), and 744.21(b) of the EAR) | Policy of Denial | 87 FR [INSERT FR PAGE NUMBER AND 4/7/2022].
| Scientific-Production Enterprise Volna, a.k.a., the following one alias: —NPP Volna. 26 Varshavskoe Highway, Moscow, 117105, Russia. | For all items subject to the EAR. (See §§ 734.9(g),³ 746.8(a)(3), and 744.21(b) of the EAR) | Policy of Denial | 87 FR [INSERT FR PAGE NUMBER AND 4/7/2022].
| Scientific-Production Enterprise Vostok JSC, a.k.a., the following one alias: —JSC NPP Vostok. 276, D. Kovalchuk St., Novosibirsk, 630075, Russia. | For all items subject to the EAR. (See §§ 734.9(g),³ 746.8(a)(3), and 744.21(b) of the EAR) | Policy of Denial | 87 FR [INSERT FR PAGE NUMBER AND 4/7/2022].
| Scientific-Research Institute and Factory Platan, a.k.a., the following one alias: —NII Platan. 2 Zavodskoy Dr., Fryazino, Moscow oblast, 141190, Russia. | For all items subject to the EAR. (See § 744.11 of the EAR) | Policy of Denial | 87 FR [INSERT FR PAGE NUMBER AND 4/7/2022].
| Scientific-Research Institute “Argon”, a.k.a., the following two aliases: —Argon Scientific-Research Institute JSC; and —NII Argon JSC. 4 Karla Marksa Street, Kaluga, 248000, Russia; and 125 Varshavskoe Shosse, Building 1, Moscow, 117587, Russia. | For all items subject to the EAR. (See §§ 734.9(g),³ 746.8(a)(3), and 744.21(b) of the EAR) | Policy of Denial | 87 FR [INSERT FR PAGE NUMBER AND 4/7/2022].
| Scientific Research Institute Ferrite-Domen, a.k.a., the following two aliases: —NII Domen; and —Ferrite-Domen Co. 25/3B Zvetochnaya St., Room 417, St. Petersburg, 196006, Russia. | For all items subject to the EAR. (See §§ 734.9(g),³ 746.8(a)(3), and 744.21(b) of the EAR) | Policy of Denial | 87 FR [INSERT FR PAGE NUMBER AND 4/7/2022].
| * * * * * *
| Scientific-Research Institute of Automated Systems and Communications Complexes Neptune JSC, a.k.a., the following one alias: —NII Neptune JSC. 80-1/A, 7th Line of Vasilyavskiy Island, St. Petersburg, 199178, Russia. | For all items subject to the EAR. (See §§ 734.9(g),³ 746.8(a)(3), and 744.21(b) of the EAR) | Policy of Denial | 87 FR [INSERT FR PAGE NUMBER AND 4/7/2022].
| Scientific Research Institute of Communication Management Systems, a.k.a., the following two aliases: —NIISU; and —NIISU JSC. 25/3B Zvetochnaya St., Room 417, St. Petersburg, 196006, Russia. | For all items subject to the EAR. (See §§ 734.9(g),³ 746.8(a)(3), and 744.21(b) of the EAR) | Policy of Denial | 87 FR [INSERT FR PAGE NUMBER AND 4/7/2022].
| * * * * * *
| Special Design and Technical Bureau for Relay Technology, a.k.a., the following two aliases: —Relay Technology Bureau JSC; and —JSCT SKTB RT. 55 Nehinskaya St., Velikiy Novgorod, 173021, Russia. | For all items subject to the EAR. (See §§ 734.9(g),³ 746.8(a)(3), and 744.21(b) of the EAR) | Policy of Denial | 87 FR [INSERT FR PAGE NUMBER AND 4/7/2022].
| Special Design Bureau Salute JSC, a.k.a., the following two aliases: —OKB Salute JSC; and —OKB Salyut JSC. 153 Krasniy Pr., Novosibirsk, Russia, 630049. | For all items subject to the EAR. (See § 744.11 of the EAR) | Policy of Denial | 87 FR [INSERT FR PAGE NUMBER AND 4/7/2022].
| * * * * * *
| Tactical Missile Corporation, 711 Aircraft Repair Plant (711 ARZ), 18 Chkalova Pereulok, Borisoglebsk, Voronezhskaya Oblast, 397171, Russia. | For all items subject to the EAR. (See §§ 734.9(g),³ 746.8(a)(3), and 744.21(b) of the EAR) | Policy of Denial | 87 FR [INSERT FR PAGE NUMBER AND 4/7/2022].
| Tactical Missile Corporation, AO GNPP “Region”, a.k.a., the following three aliases: —GNPP Region, PAO; —Aktsionernoe Obshchestvo “Gosudarstvennoe Nauchno-Proizvodstvennoe Predpriyatie “Region,”; and —“Region” Scientific & Production Enterprise JSC. 10 Turaevo I.Z., Lytkarino City, Moscow Region, 140080, Russia. | For all items subject to the EAR. (See §§ 734.9(g),³ 746.8(a)(3), and 744.21(b) of the EAR) | Policy of Denial | 87 FR [INSERT FR PAGE NUMBER AND 4/7/2022].
| Tactical Missile Corporation, AO TMKB “Soyuz”, a.k.a., the following four aliases: —Turaevskoe MKB “Soyuz”; —Aktsionernoe Obshchestvo Turaevskoe Mashinostroitelnoe Konstruktorskoe Byuro “Soyuz”; —Soyuz PAO; and —JSC “Turaevskoe Machine-Building Design Bureau “Soyuz. 10 Turaevo I.Z., Lytkarino City, Moscow Region, 140080, Russia. | For all items subject to the EAR. (See §§ 734.9(g),³ 746.8(a)(3), and 744.21(b) of the EAR) | Policy of Denial | 87 FR [INSERT FR PAGE NUMBER AND 4/7/2022].
| Tactical Missile Corporation, Azov Optical and Mechanical Plant, a.k.a., the following three aliases: —PPO Azovski Optiko-Mekhanicheski Zavod; —Pervichnaya Profsoyuznaya Organizatsiya “Azovski Optiko-Mekhanicheski Zavod” Rossiskogo Profsoyuza Rabotnikov Promyshlennosti; and —JSC AOMZ). 5 Promyshlennaya Street, Azov, Rostovskaya Oblast, 346780, Russia. | For all items subject to the EAR. (See §§ 734.9(g),³ 746.8(a)(3), and 744.21(b) of the EAR) | Policy of Denial | 87 FR [INSERT FR PAGE NUMBER AND 4/7/2022].
| Tactical Missile Corporation, “Central Design Bureau of Automation”, a.k.a., the following three aliases: — JSC “TsKBA”; — AO “TsKBA”; and — Aktsionernoe Obshchestvo “Tsentralnoe Konstruktorskoe Byuro Avtomatiki”. 24A Kosmicheski Prospekt, Omsk, Omskaya Oblast, 44027, Russia. | For all items subject to the EAR. (See §§ 734.9(g),³ 746.8(a)(3), and 744.21(b) of the EAR) | Policy of Denial | 87 FR [INSERT FR PAGE NUMBER AND 4/7/2022].
| Tactical Missile Corporation, Concern “MPO—Gidropribor”, a.k.a., the following two aliases: —Joint Stock Company Concern Sea Underwater Weapons Gidropribor; and —Research Institute “Gidpropridor”; Central Research Institute “Gidropribor”. 24, Sampsonievskiy pr., Saint Petersburg, 194044, Russia. | For all items subject to the EAR. (See §§ 734.9(g),³ 746.8(a)(3), and 744.21(b) of the EAR) | Policy of Denial | 87 FR [INSERT FR PAGE NUMBER AND 4/7/2022].
| Tactical Missile Corporation, Joint Stock Company Avangard, 78 Oktyabrskaya Street, Safonovo, Smolensk Region, 215500, Russia. | For all items subject to the EAR. (See §§ 734.9(g),³ 746.8(a)(3), and 744.21(b) of the EAR) | Policy of Denial | 87 FR [INSERT FR PAGE NUMBER AND 4/7/2022].
| Tactical Missile Corporation, Joint Stock Company Concern Granit-Electron, 3 Gospitalnaya St., St. Petersburg, 191014, Russia. | For all items subject to the EAR. (See §§ 734.9(g),³ 746.8(a)(3), and 744.21(b) of the EAR) | Policy of Denial | 87 FR [INSERT FR PAGE NUMBER AND 4/7/2022].
| Tactical Missile Corporation, Joint Stock Company Elektrotyaga, a.k.a., the following two aliases: —Electric Traction; and —ZAO Elekrotjaga. 50-A Kalinina Str., St. Petersburg, 198095, Russia. | For all items subject to the EAR. (See §§ 734.9(g),³ 746.8(a)(3), and 744.21(b) of the EAR) | Policy of Denial | 87 FR [INSERT FR PAGE NUMBER AND 4/7/2022].
| Tactical Missile Corporation, Joint Stock Company GosNIIMash, a.k.a., the following five aliases: —PPO Rosprofprom V “GOSNIIMASH”; —State Research Institute of Mechanical Engineering; —Pervichnaya Profsoyuznaya Organizatsiya Rossiskogo Profsoyuza Rabotnikov Promyshlennosti V “GOSNIIMASH”; —Joint Stock Company “State Research Institute of Mechanical Engineering” named after V.V. Bakhirev”; and —SKB DNIKhTI. 11 Sverdlova Prospekt, Dzerzhinsk, Nizhegorodskaya Oblast, 606002, Russia. | For all items subject to the EAR. (See §§ 734.9(g),³ 746.8(a)(3), and 744.21(b) of the EAR) | Policy of Denial | 87 FR [INSERT FR PAGE NUMBER AND 4/7/2022].
| Tactical Missile Corporation, Joint Stock Company PA Strela, a.k.a. the following one alias: —Production Association Strela. 26 Shevchenko Str., Orenburg, 460005, Russia. | For all items subject to the EAR. (See §§ 734.9(g),³ 746.8(a)(3), and 744.21(b) of the EAR) | Policy of Denial | 87 FR [INSERT FR PAGE NUMBER AND 4/7/2022].
| Tactical Missile Corporation, Joint Stock Company “Plant Dagdiesel”, 1 Lenina Street, Kaspiysk, Republic of Dagestan, 368300, Russia. | For all items subject to the EAR. (See §§ 734.9(g),³ 746.8(a)(3), and 744.21(b) of the EAR) | Policy of Denial | 87 FR [INSERT FR PAGE NUMBER AND 4/7/2022].
| Tactical Missile Corporation, Joint Stock Company Plant Kulakov, a.k.a., the following one alias: —JSC Plant Named After A.A. Kulakov. 12 Yablochkova Street, St. Petersburg, 197198, Russia. | For all items subject to the EAR. (See §§ 734.9(g),³ 746.8(a)(3), and 744.21(b) of the EAR) | Policy of Denial | 87 FR [INSERT FR PAGE NUMBER AND 4/7/2022].
| Tactical Missile Corporation, Joint Stock Company Ravenstvo, a.k.a., the following one alias: —Joint-Stock Company Ravenstvo; Equality. 19 Promyshlennaya Street, St. Petersburg, 198099, Russia. | For all items subject to the EAR. (See §§ 734.9(g),³ 746.8(a)(3), and 744.21(b) of the EAR) | Policy of Denial | 87 FR [INSERT FR PAGE NUMBER AND 4/7/2022].
| Tactical Missile Corporation, Joint Stock Company Ravenstvo-service, 19 Promyshlennaya Street, St. Petersburg, 198099, Russia. | For all items subject to the EAR. (See §§ 734.9(g),³ 746.8(a)(3), and 744.21(b) of the EAR) | Policy of Denial | 87 FR [INSERT FR PAGE NUMBER AND 4/7/2022].
| Tactical Missile Corporation, Joint-Stock Company “Research Center for Automated Design”, a.k.a., following two aliases: —NIC ASK; and —ASK JSC. 37 Leningradsky Prospekt, Room 12, Moscow, 125167, Russia. | For all items subject to the EAR. (See §§ 734.9(g),³ 746.8(a)(3), and 744.21(b) of the EAR) | Policy of Denial | 87 FR [INSERT FR PAGE NUMBER AND 4/7/2022].
| Tactical Missile Corporation, Joint Stock Company “Salute”, a.k.a., the following two aliases: —Salyut, PAO; and —Kuibyshev Mechanical Plant. 20 Moskovskoe Shosse, Samara, 443028, Russia. | For all items subject to the EAR. (See §§ 734.9(g),³ 746.8(a)(3), and 744.21(b) of the EAR) | Policy of Denial | 87 FR [INSERT FR PAGE NUMBER AND 4/7/2022].
| Tactical Missile Corporation, Joint Stock Company Saratov Radio Instrument Plant, 108 50 Years of October, Saratov, 410040, Russia. | For all items subject to the EAR. (See §§ 734.9(g),³ 746.8(a)(3), and 744.21(b) of the EAR) | Policy of Denial | 87 FR [INSERT FR PAGE NUMBER AND 4/7/2022].
| Tactical Missile Corporation Joint Stock Company “Scientific Research Institute of Marine Heat Engineering”, a.k.a., the following one alias: —Research Institute of Morteplotehniki. 44 Chernikova Street, Lomonosov, St. Petersburg, 198412, Russia. | For all items subject to the EAR. (See §§ 734.9(g),³ 746.8(a)(3), and 744.21(b) of the EAR) | Policy of Denial | 87 FR [INSERT FR PAGE NUMBER AND 4/7/2022].
| Tactical Missile Corporation, Joint Stock Company Severny Press, a.k.a., the following one alias: —Northern Press. 7 Tallinskaya Street, St. Petersburg, 195196, Russia. | For all items subject to the EAR. (See §§ 734.9(g),³ 746.8(a)(3), and 744.21(b) of the EAR) | Policy of Denial | 87 FR [INSERT FR PAGE NUMBER AND 4/7/2022].
| Tactical Missile Corporation, Joint Stock Company “State Machine Building Design Bureau “Vympel” By Name I.I. Toropov”, a.k.a., the following two aliases: —AO Gos MKB “Vympel” named for II Toropov; and —Vympel NPO. 90 Voloklamskoe Shosse, Moscow, 125424, Russia. | For all items subject to the EAR. (See §§ 734.9(g),³ 746.8(a)(3), and 744.21(b) of the EAR) | Policy of Denial | 87 FR [INSERT FR PAGE NUMBER AND 4/7/2022].
| Tactical Missile Corporation, Joint Stock Company “URALELEMENT”, a.k.a., the following one alias: —Verkhneufalei Plant “Uralelement”. 24 Dmitrieva St., Verkhny Ufaley, Chelyabinsk Region, 456800, Russia. | For all items subject to the EAR. (See §§ 734.9(g),³ 746.8(a)(3), and 744.21(b) of the EAR) | Policy of Denial | 87 FR [INSERT FR PAGE NUMBER AND 4/7/2022].
| Tactical Missile Corporation JSC “KRASNY GIDROPRESS”, a.k.a., the following five aliases: —Aktsionernoe Obshchestvo “Krasny Gidropress,”; —Krasny Gidropress, PAO; —Red Hydraulic Press; —Krasny Gidropress JSC; and —Taganrog Krasnyy Gidropress Plan. 3 Severnaya Place, Taganrog, Rostovskaya Oblast, 347928, Russia. | For all items subject to the EAR. (See §§ 734.9(g),³ 746.8(a)(3), and 744.21(b) of the EAR) | Policy of Denial | 87 FR [INSERT FR PAGE NUMBER AND 4/7/2022].
| Tactical Missile Corporation, KB Mashinostroeniya, a.k.a., the following two aliases: —JSC Research and Production Corporation Design Bureau of Mechanical Engineering; and —JSC NPK KBM. 42 Oksky Prospect, Kolomna, Moscow Region, 140402, Russia. | For all items subject to the EAR. (See §§ 734.9(g),³ 746.8(a)(3), and 744.21(b) of the EAR) | Policy of Denial | 87 FR [INSERT FR PAGE NUMBER AND 4/7/2022].
| Tactical Missile Corporation, NPO Electromechanics, 31 Mendeleev Street, Chelyabinsk Region, 456320, Russia. | For all items subject to the EAR. (See §§ 734.9(g),³ 746.8(a)(3), and 744.21(b) of the EAR) | Policy of Denial | 87 FR [INSERT FR PAGE NUMBER AND 4/7/2022].
| Tactical Missile Corporation, NPO Lightning, a.k.a., the following one alias: —Research and Production Association Lightning JSC NPO Molniya. 5K1 Lodochnaya Street, Moscow, Russia. | For all items subject to the EAR. (See §§ 734.9(g),³ 746.8(a)(3), and 744.21(b) of the EAR) | Policy of Denial | 87 FR [INSERT FR PAGE NUMBER AND 4/7/2022].
| Tactical Missile Corporation, Petrovsky Electromechanical Plant “Molot”, 40 Gogol Street, Petrovsk, Saratov Region, 412541, Russia. | For all items subject to the EAR. (See §§ 734.9(g),³ 746.8(a)(3), and 744.21(b) of the EAR) | Policy of Denial | 87 FR [INSERT FR PAGE NUMBER AND 4/7/2022].
| Tactical Missile Corporation, PJSC ANPP Temp Avia, a.k.a., the following six aliases: —ANPP “TEMP AVIA”; —Public Joint Stock Company “Arzamas Research and Production Enterprise”; —TEMP-AVIA; —ANPP TEMP AIR; —Joint Stock Company “Arzamas Research And Production Enterprise “TEMP-AVIA”; and —Publichnoe Aktsionernoe Obshchestvo “Arzamasskoe Nauchno-Proizvodstvennoe Predpriyatie “TEMP-AVIA”. 26 G. Arzamas G.Arzamas. Street, Kirov, Nizhny Novgorod, 607220 Russia. | For all items subject to the EAR. (See §§ 734.9(g),³ 746.8(a)(3), and 744.21(b) of the EAR) | Policy of Denial | 87 FR [INSERT FR PAGE NUMBER AND 4/7/2022].
| Tactical Missile Corporation, PJSC “MBDB ISKRA”, a.k.a., the following two aliases: —Aktsionernoe Obshchestvo “Mashinostroitelnoe Konstruktorskoe Byuro “Iskra” Imeni Ivana Ivanovicha Kartukova”; and —AO MKB “ISKRA”. 35 Leningradsky Prospekt, Moscow, 125284, Russia. | For all items subject to the EAR. (See §§ 734.9(g),³ 746.8(a)(3), and 744.21(b) of the EAR) | Policy of Denial | 87 FR [INSERT FR PAGE NUMBER AND 4/7/2022].
| Tactical Missile Corporation, Raduga Design Bureau, a.k.a., the following four aliases: —AO “GosMKB “Raduga” IM. A.Ya.Bereznyaka,”; —Joint Stock Company “State Machine-Building Design Bureau “Raduga,”; —MKB Raduga; and —GosMKB “Rainbow” them. AND I. Bereznyak. 2A Zhukovskogo, Dubna, Moscowvskaya Oblast, 141983, Russia. | For all items subject to the EAR. (See §§ 734.9(g),³ 746.8(a)(3), and 744.21(b) of the EAR) | Policy of Denial | 87 FR [INSERT FR PAGE NUMBER AND 4/7/2022].
| Tactical Missile Corporation, RKB Globus, a.k.a., the following two aliases: —JSC Ryazan Design Bureau Globus; and —Federal State Unitary Enterprise RKB Globus. 6 Vysokovoltnaya Street, Ryazan, 390013, Russia. | For all items subject to the EAR. (See §§ 734.9(g),³ 746.8(a)(3), and 744.21(b) of the EAR) | Policy of Denial | 87 FR [INSERT FR PAGE NUMBER AND 4/7/2022].
| Tactical Missile Corporation, Smolensk Aviation Plant, a.k.a., the following one alias: —JSC “SmAZ”. 74 Frunze Street, Smolensk, 214006, Russia. | For all items subject to the EAR. (See §§ 734.9(g),³ 746.8(a)(3), and 744.21(b) of the EAR) | Policy of Denial | 87 FR [INSERT FR PAGE NUMBER AND 4/7/2022].
| Tactical Missile Corporation, TRV Engineering, a.k.a., the following one alias: —Zvezda-Strela Trading House LLC. 2A Ordzhonikidze Street, Korolev, Moscow Region, Russia. | For all items subject to the EAR. (See §§ 734.9(g),³ 746.8(a)(3), and 744.21(b) of the EAR) | Policy of Denial | 87 FR [INSERT FR PAGE NUMBER AND 4/7/2022].
| Tactical Missile Corporation, Ural Design Bureau “Detal”, a.k.a., the following four aliases: —Joint-Stock Company “Ural Design Bureau “Detal”; —Aktsionernoe Obshchestvo “Uralskoe Proektno-Konstruktorskoe Byuro “Detal”; —AO UPKB “Detal”; and —Uralskoe Proektno-Konstruktorskoe Byuro Detal, Pao. 8 Pionerskaya Street, Kamensk-Uralski, Sverdlovskaya Oblast, 623409, Russia. | For all items subject to the EAR. (See §§ 734.9(g),³ 746.8(a)(3), and 744.21(b) of the EAR) | Policy of Denial | 87 FR [INSERT FR PAGE NUMBER AND 4/7/2022].
| Tactical Missile Corporation, Zvezda-Strela Limited Liability Company, a.k.a., the following two aliases: —Star Arrow; and —Zvezda-Arrow Corporation. 3 Taganrog Severnaya Square, Rostov Region, 347928, Russia. | For all items subject to the EAR. (See §§ 734.9(g),³ 746.8(a)(3), and 744.21(b) of the EAR) | Policy of Denial | 87 FR [INSERT FR PAGE NUMBER AND 4/7/2022].
| * * * * * *
| Tambov Plant (TZ) “October”, a.k.a., the following two aliases: —Tambov Plant (TZ) October JSC; and —JSC Octayabr. 1 Bastionaya Street, Tambov, Tambovskaya Oblast, 392029, Russia. | For all items subject to the EAR. (See § 744.11 of the EAR) | Policy of Denial | 87 FR [INSERT FR PAGE NUMBER AND 4/7/2022].
| * * * * * *
| Turayev Machine Building Design Bureau Soyuz, a.k.a., the following one alias: —TMBDB SoyuZ PJSC. 10 Turaevo I.Z., Lytkarino, Moscow Region, 140080, Russia. | For all items subject to the EAR. (See § 744.11 of the EAR) | Policy of Denial | 87 FR [INSERT FR PAGE NUMBER AND 4/7/2022].
| * * * * * *
| United Shipbuilding Corporation “Production Association Northern Machine Building Enterprise”, a.k.a., the following one alias: —JSC PO Sevmash. 58 Archangelskoye Shosse, Severodvinsk, Archangelsk Region, 164500, Russia. | For all items subject to the EAR. (See §§ 734.9(g),³ 746.8(a)(3), and 744.21(b) of the EAR) | Policy of Denial | 87 FR [INSERT FR PAGE NUMBER AND 4/7/2022].
| * * * * * *
| Zhukovskiy Central Aerohydrodynamics Institute (TsAGI), a.k.a., the following two aliases: —TsAGI; and —The Central Aerohydrodynamic Institute named after N.E. Zhukovsky. 1 Zhukovsky Street, Zhukovsky, Moscow Region, 140180, Russia. | For all items subject to the EAR. (See § 744.11 of the EAR) | Policy of Denial | 87 FR [INSERT FR PAGE NUMBER AND 4/7/2022].
| * * * * * *
* * * * * * *
³ For this entity, “items subject to the EAR” includes foreign-produced items that are subject to the EAR under § 734.9(g) of the EAR. See §§ 746.8 and 744.21 of the EAR for related license requirements, license review policy, and restrictions on license exceptions.

Thea D. Rozman Kendler,
Assistant Secretary for Export Administration.

[FR Doc. 2022-07284 Filed 4-1-22; 2:30 pm]

BILLING CODE 3510-33-P